NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on April 16-17, 2012. A sample of agenda items to be discussed during the public session includes: (1) Fundamental concepts in patient advocacy; (2) electronic signatures for documents that are required to be signed in accordance with U.S. Nuclear Regulatory Commission (NRC) regulations; (3) medical-related events from fiscal year 2011; (4) an update on proposed regulatory changes for Permanent Implant Brachytherapy programs; (5) the status of the Commission Paper on data collection for Patient Release; (6) a status update on 10 CFR Part 35 rulemaking; (7) medical use of radium-223 chloride; (8) an update on strontium breakthrough with rubidium-82 generators from NRC and FDA perspectives; and (9) half-life activity as a function of solar activity. The agenda is subject to change. The current agenda and any updates will be available at http://www.nrc.gov/reading-rm/doc-collections/acmui/agenda or by emailing Ms. Sophie Holiday at the contact information below.

Purpose: Discuss issues related to 10 CFR Part 35 Medical Use of Byproduct Material.

Date and Time for Closed Session: April 16, 2012, from 8 a.m. to 10:45 a.m. This session will be closed so that ACMUI members can prepare for an upcoming Commission briefing.

Date and Time for Open Sessions: April 16, 2012, from 10:45 a.m. to 5 p.m. and April 17, 2012, from 8 a.m. to 12:30 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: http://www.nrc.gov/public-involve/public-meetings/webcast-live.html.

Contact Information: Sophie J. Holiday, email: sophie.holiday@nrc.gov, telephone: (301) 415-7865.

Conduct of the Meeting

Leon S. Malmud, M.D., will chair the meeting. Dr. Malmud will conduct the meeting in a manner that will facilitate the orderly conduct of business. The following procedures apply to public participation in the meeting:

1. Persons who wish to provide a written statement should submit an electronic copy to Ms. Holiday at the contact information listed above. All submittals must be received by April 9, 2012, and must pertain to the topic on the agenda for the meeting.

2. Questions and comments from members of the public will be permitted during the meeting, at the discretion of the Chairman.

3. The draft transcript will be available on ACMUI's Web site (http://www.nrc.gov/reading-rm/doc-collections/acmui/tr/) on or about May 18, 2012. A meeting summary will be available on ACMUI's Web site (http://www.nrc.gov/reading-rm/doc-collections/acmui/meeting-summaries/) on or about May 29, 2012.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10, U.S. Code of Federal Regulations, Part 7.

Dated: March 7, 2012.
Andrew L. Bates,
Advisory Committee Management Officer.

[FR Doc. 2012-5998 Filed 3-12-12; 8:45 am]

BILLING CODE 7590-01-P